DEPARTMENT OF DEFENSE

48 CFR Part 235

[DFARS Case 200-D401]

Defense Federal Acquisition Regulation Supplement; Research, Development, Test, and Evaluation Budget Category Definitions

AGENCY: Department of Defense (DoD).

ACTION: Final rule.

SUMMARY: The Acting Director of Defense Procurement has issued a final rule amending the Defense Federal Acquisition Regulation Supplement (DFARS) to remove obsolete definitions pertaining to research and development efforts. The rule replaces the obsolete definitions with a reference to the current definitions pertaining to research and development found in the DoD Financial Management Regulation.

EFFECTIVE DATE: May 22, 2000.

FOR FURTHER INFORMATION CONTACT: Ms. Susan Schneider, Defense Acquisition Regulations Council, PDUSD(AT&L)DP(DAR), IMD 3D139, 3062 Defense Pentagon, Washington, DC 20301-3062. Telephone (703) 602-0326; telefax (703) 602-0350. Please cite DFARS Case 2000-D401.

SUPPLEMENTARY INFORMATION:

A. Background

This final rule revises DFARS 235.001 to remove obsolete definitions pertaining to research and development and to replace the definitions with a reference to those in the DoD Financial Management Regulation (DoD 7000.14-R).

This rule was not subject to Office of Management and Budget review under Executive Order 12866, dated September 30, 1993.

B. Regulatory Flexibility Act

This final rule does not constitute a significant revision within the meaning of FAR 1.501 and Public Law 98-577 and publication for public comment is not required. However, DoD will consider comments from small entities concerning the affected DFARS subpart in accordance with 5 U.S.C. 610. Such comments should cite DFARS Case 2000-D401.

C. Paperwork Reduction Act

The Paperwork Reduction Act does not apply because the rule does not impose any information collection requirements that require the approval of the Office of Management and Budget under 44 U.S.C. 3501, et seq.

List of Subjects in 48 CFR Part 235

Government procurement.

Michele P. Peterson,
Executive Editor, Defense Acquisition Regulations Council.

Therefore, 48 CFR Part 235 is amended as follows:

1. The authority citation for 48 CFR Part 235 continues to read as follows:

Authority: 41 U.S.C. 421 and 48 CFR Chapter 1.

PART 235—RESEARCH AND DEVELOPMENT CONTRACTING

2. Section 235.001 is revised to read as follows:

235.001 Definitions.

“Research and development” means those efforts described by the Research, Development, Test, and Evaluation (RDT&E) budget activity definitions found in the DoD Financial Management Regulation (DoD 7000.14-R), Volume 2B, Chapter 5.

[FR Doc. 00-12417 Filed 5-19-00; 8:45 am]

BILLING CODE 5000-04-M